DEPARTMENT OF TRANSPORTATION

Federal Motor Carrier Safety Administration

[Docket No. FMCSA-2006-26367]

Motor Carrier Safety Advisory Committee Public Meeting

AGENCY: Federal Motor Carrier Safety Administration (FMCSA), DOT.

ACTION: Notice of Motor Carrier Safety Advisory Committee meeting.

SUMMARY: FMCSA announces that the Agency's Motor Carrier Safety Advisory Committee (MCSAC) will hold a committee meeting via conference call on December 7, 2009. The conference call is open to the public.

DATES: The meeting will be held by conference call on December 7, 2009, from 8:30 a.m. to 9:30 a.m. Eastern Standard Time.

Matters To Be Considered: The MCSAC will be requested to begin work on a new task: as part of FMCSA's broad efforts to gather information and recommendations on hours-of-service requirements for drivers of property-carrying vehicles, FMCSA is asking MCSAC to provide advice and recommendations on the hours of service requirements.

FOR FURTHER INFORMATION CONTACT: Mr. Jack Kostelnik, Acting Chief, Strategic Planning and Program Evaluation Division, Office of Policy Plans and Regulation, Federal Motor Carrier Safety Administration, U.S. Department of Transportation, 1200 New Jersey Avenue, SE., Washington, DC 20590, (202) 366-5730, mcsac@dot.gov.

SUPPLEMENTARY INFORMATION:

I. Background

MCSAC

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations, and operates in accordance with the Federal Advisory Committee Act (5 U.S.C. App 2).

Hours-of-Service Task

On October 26, 2009, Public Citizen, et al. (Petitioners) and FMCSA entered into a settlement agreement under which Petitioners' petition for judicial review of the November 19, 2008 Final Rule on drivers' hours of service will be held in abeyance pending the publication of a Notice of Proposed Rulemaking (NPRM). The settlement agreement states that FMCSA will submit the draft NPRM to the Office of Management and Budget (OMB) within nine months of the date of the settlement agreement and that FMCSA will publish a Final Rule within 21 months of the date of the settlement agreement. The current rule will remain in effect during the rulemaking proceedings.

Assigning MCSAC this task is one of several steps that FMCSA will be undertaking in its process of proposing hours-of-service requirements for drivers of property-carrying vehicles. Other steps will include public listening sessions across the country and the opportunity for public comment on the forthcoming NPRM.

II. Meeting Participation

The meeting is open to the public and FMCSA seeks participation by all interested parties, including safety advocacy groups, State safety agencies, motor carriers, motor carrier associations, owner-operators, drivers, and labor unions. For information on the agenda, bridge line and web link for the conference call, please send an e-mail to mcsac@dot.gov. For information on services for individuals with disabilities or to request special assistance, please e-mail your request to mcsac@dot.gov by December 4, 2009.

Please note that oral comments will not be taken during this conference call from the public due to time limitations. Members of the public may submit written comments on this topic by December 3, 2009, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue, SE., West Building, Room W12-140, Washington, DC 20590.

• Hand Delivery: U.S. Department of Transportation, 1200 New Jersey Avenue, SE., Room W12-140, Washington, DC, between 9 a.m. and 5 p.m., Monday through Friday, except Federal holidays.

Issued on: November 24, 2009.
Larry W. Minor,
Associate Administrator for Policy and Program Development.

[FR Doc. E9-28672 Filed 11-30-09; 8:45 am]

BILLING CODE 4910-EX-P